DEPARTMENT OF ENERGY

Federal Energy Regulatory Commission

Combined Notice of Filings #1

Take notice that the Commission received the following exempt wholesale generator filings:

Docket Numbers: EG24-177-000.

Applicants: Hornet Solar LLC.

Description: Hornet Solar LLC submits Notice of Self-Certification of Exempt Wholesale Generator Status.

Filed Date: 5/13/24.

Accession Number: 20240513-5293.

Comment Date: 5 p.m. ET 6/3/24.

Take notice that the Commission received the following electric rate filings:

Docket Numbers: ER24-1259-001.

Applicants: Occidental Power Marketing, L.P.

Description: Tariff Amendment: Deficiency Letter Response to be effective 2/16/2024.

Filed Date: 5/14/24.

Accession Number: 20240514-5044.

Comment Date: 5 p.m. ET 6/4/24.

Docket Numbers: ER24-1261-001.

Applicants: Occidental Power Services, Inc.

Description: Tariff Amendment: Deficiency Letter Response to be effective 2/16/2024.

Filed Date: 5/14/24.

Accession Number: 20240514-5045.

Comment Date: 5 p.m. ET 6/4/24.

Docket Numbers: ER24-1262-001.

Applicants: Occidental Chemical Corporation.

Description: Tariff Amendment: Deficiency Letter Response to be effective 2/16/2024.

Filed Date: 5/14/24.

Accession Number: 20240514-5046.

Comment Date: 5 p.m. ET 6/4/24.

Docket Numbers: ER24-1263-001.

Applicants: OTCF, LLC.

Description: Tariff Amendment: Deficiency Letter Response to be effective 2/16/2024.

Filed Date: 5/14/24.

Accession Number: 20240514-5052.

Comment Date: 5 p.m. ET 6/4/24.

Docket Numbers: ER24-1469-002.

Applicants: PJM Interconnection, L.L.C.

Description: Tariff Amendment: Amendment to ER24-1469-001 re: Metadata Correction to be effective 1/1/2024.

Filed Date: 5/14/24.

Accession Number: 20240514-5114.

Comment Date: 5 p.m. ET 6/4/24.

Docket Numbers: ER24-1580-001.

Applicants: Alabama Power Company, Georgia Power Company, Mississippi Power Company.

Description: Tariff Amendment: Alabama Power Company submits tariff filing per 35.17(b): Double Run Solar LGIA Amended Amendment Filing to be effective 3/6/2024.

Filed Date: 5/14/24.

Accession Number: 20240514-5094.

Comment Date: 5 p.m. ET 6/4/24.

Docket Numbers: ER24-1700-001.

Applicants: Alabama Power Company, Georgia Power Company, Mississippi Power Company.

Description: Tariff Amendment: Alabama Power Company submits tariff filing per 35.17(b): EDF Renewables (Rock House Solar) LGIA Amended Amendment Filing to be effective 3/22/2024.

Filed Date: 5/14/24.

Accession Number: 20240514-5095.

Comment Date: 5 p.m. ET 6/4/24.

Docket Numbers: ER24-1755-001.

Applicants: Alabama Power Company, Georgia Power Company, Mississippi Power Company.

Description: Tariff Amendment: Alabama Power Company submits tariff filing per 35.17(b): Shelby Solar Park LGIA Amended Amendment Filing to be effective 4/2/2024.

Filed Date: 5/14/24.

Accession Number: 20240514-5093.

Comment Date: 5 p.m. ET 6/4/24.

Docket Numbers: ER24-1756-001.

Applicants: Alabama Power Company, Georgia Power Company, Mississippi Power Company.

Description: Tariff Amendment: Alabama Power Company submits tariff filing per 35.17(b): Sawmill Junction Solar Park A&R LGIA Amended Amendment Filing to be effective 4/4/2024.

Filed Date: 5/14/24.

Accession Number: 20240514-5092.

Comment Date: 5 p.m. ET 6/4/24.

Docket Numbers: ER24-2002-000.

Applicants: Southwest Power Pool, Inc.

Description: § 205(d) Rate Filing: Revisions to Modify Adder for Offers Greater Than $1000/MWh to be effective 7/14/2024.

Filed Date: 5/14/24.

Accession Number: 20240514-5026.

Comment Date: 5 p.m. ET 6/4/24.

Docket Numbers: ER24-2003-000.

Applicants: Southwest Power Pool, Inc.

Description: § 205(d) Rate Filing: Revisions to Allow Nomination of Candidate LTCRs for FSEs and GFA Carve Outs to be effective 7/14/2024.

Filed Date: 5/14/24.

Accession Number: 20240514-5027.

Comment Date: 5 p.m. ET 6/4/24.

Docket Numbers: ER24-2005-000.

Applicants: AEP Texas Inc.

Description: § 205(d) Rate Filing: AEPTX-Saragosa Del Sol Energy Generation Interconnection Agreement to be effective 4/23/2024.

Filed Date: 5/14/24.

Accession Number: 20240514-5056.

Comment Date: 5 p.m. ET 6/4/24.

Docket Numbers: ER24-2006-000.

Applicants: AEP Texas Inc.

Description: § 205(d) Rate Filing: AEPTX-BRP Blue Topaz 2 Generation Interconnection Agreement to be effective 4/22/2024.

Filed Date: 5/14/24.

Accession Number: 20240514-5063.

Comment Date: 5 p.m. ET 6/4/24.

Docket Numbers: ER24-2007-000.

Applicants: ISO New England Inc., New England Power Pool Participants Committee.

Description: § 205(d) Rate Filing: ISO New England Inc. submits tariff filing per 35.13(a)(2)(iii: Rev to Section II of ISO Tariff Related to Comp. with Order 2023 and 2023-A to be effective 12/31/9998.

Filed Date: 5/14/24.

Accession Number: 20240514-5109.

Comment Date: 5 p.m. ET 6/4/24.

Docket Numbers: ER24-2008-000.

Applicants: Midcontinent Independent System Operator, Inc.

Description: § 205(d) Rate Filing: 2024-05-14_SA 4288 Ameren IL-Panther Solar B912 GIA (J1306) to be effective 7/14/2024.

Filed Date: 5/14/24.

Accession Number: 20240514-5152.

Comment Date: 5 p.m. ET 6/4/24.

Docket Numbers: ER24-2009-000.

Applicants: ISO New England Inc., New England Power Pool Participants Committee.

Description: Compliance filing: ISO New England Inc. submits tariff filing per 35: Revisions in Compliance with Order Nos. 2023 and 2023-A to be effective 8/12/2024.

Filed Date: 5/14/24.

Accession Number: 20240514-5156.

Comment Date: 5 p.m. ET 6/4/24.

Docket Numbers: ER24-2010-000.

Applicants: AMP Transmission, LLC, AES US Services, LLC, PJM Interconnection, L.L.C.

Description: § 205(d) Rate Filing: AMP Transmission, LLC submits tariff filing per 35.13(a)(2)(iii: AES Ohio submits Interconnection Agreement, SA No. 7241 to be effective 5/7/2024.

Filed Date: 5/14/24.

Accession Number: 20240514-5158.

Comment Date: 5 p.m. ET 6/4/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 14, 2024.
Debbie-Anne A. Reese,
Acting Secretary.

[FR Doc. 2024-11048 Filed 5-20-24; 8:45 am]

BILLING CODE 6717-01-P